DEPARTMENT OF COMMERCE

International Trade Administration

A-821-808

Certain Cut-to-Length Carbon Steel Plate from Russia; Final Results of Expedited Sunset Review of the Suspension Agreement

AGENCY: Import Administration, International Trade Administration, Department of Commerce.

ACTION: Notice of Final Results of the Expedited Sunset Review of the Suspension Agreement on Certain Cut-to-Length Carbon Steel Plate from Russia.

SUMMARY: On August 1, 2008, the Department of Commerce (“the Department”) initiated a sunset review of the suspended antidumping duty investigation on certain cut-to-length carbon steel plate (“CTL plate”) from the Russian Federation (“Russia”) pursuant to section 751(c) of the Tariff Act of 1930, as amended (“the Act”). See Initiation of Five-year (“Sunset”) Review, 73 FR 44968 (August 1, 2008) (“Initiation Notice”). On the basis of notices of intent to participate and adequate substantive comments filed on behalf of domestic interested parties, as well as no response from respondent interested parties, the Department is conducting an expedited (120-day) review. As a result of this review, the Department finds that termination of the suspension agreement and the underlying antidumping duty investigation on CTL plate from Russia would likely lead to continuation or recurrence of dumping at the levels indicated in the Final Results of Review section of this notice.

EFFECTIVE DATE: December 8, 2008.

FOR FURTHER INFORMATION CONTACT: Sally C. Gannon or Maureen Price, Import Administration, International Trade Administration, U.S. Department of Commerce, 14th Street and Constitution Avenue, N.W., Washington, DC 20230, telephone: (202) 482-0162 or (202) 482-4271.

SUPPLEMENTARY INFORMATION:

History of the Suspension Agreement

On December 3, 1996, the Department initiated an antidumping duty investigation under section 732 of the Act on certain CTL plate from Russia. See Initiation of Antidumping Duty Investigations: Certain Cut-To-Length Carbon Steel Plate from the People's Republic of China, Ukraine, the Russian Federation, and the Republic of South Africa, 61 FR 64051 (December 3, 1996). On June 11, 1997, the Department preliminarily determined that CTL plate from Russia was being, or was likely to be, sold in the United States at less than fair value. See Preliminary Determination of Sales at Less Than Fair Value; Certain Cut-to-Length Carbon Steel Plate from the Russian Federation, 62 FR 31967 (June 11, 1997). The Department suspended the antidumping duty investigation on October 24, 1997, on the basis of an agreement by the Russian Government to restrict the volume of direct and indirect exports of CTL plate to the United States in order to prevent the suppression or undercutting of price levels of U.S. domestic like products. See Suspension of Antidumping Duty Investigation: Certain Cut-to-Length Carbon Steel Plate From the Russian Federation, 62 FR 61780 (November 19, 1997). Thereafter, upon the request of the petitioners, the Department continued its investigation and published in the Federal Register its final determination of sales at less than fair market value. In the final determination, the Department calculated a weighted-average dumping margin of 53.81 percent for JSC Severstal, and 185.00 for “all other” Russian manufacturers, producers, and exporters of the subject merchandise. See Notice of Final Determination of Sales at Less Than Fair Value: Certain Cut-to-Length Carbon Steel Plate From the Russian Federation, 62 FR 61787 (November 19, 1997). On December 20, 2002, a revised suspension agreement was signed by representatives of Russian CTL plate producers pursuant to section 734(b) of the Act. This agreement became effective January 23, 2003, and replaced the previous non-market economy agreement that had been in effect since 1997. See Suspension of Antidumping Duty Investigation of Certain Cut-to-Length Carbon Steel Plate from the Russian Federation, 68 FR 3859 (January 27, 2003) (“Suspension Agreement”).

On May 14, 2008, the Department concluded an administrative review of the Suspension Agreement with respect to CTL Plate from Russia. We found that JSC Severstal (“Severstal”) was in compliance with the agreement. See Certain Cut-to-Length Carbon Steel Plate from the Russian Federation; Final Results of Administrative Review of the Suspension Agreement, 73 FR 27795 (May 14, 2008).

The Suspension Agreement remains in effect for the signatory producers/exporters of CTL plate from Russia: Severstal, JSC Magnitogorsk Iron and Steel Works and JSC NOSTA Integrated Iron-Steel Works.

Background

On August 1, 2008, the Department initiated a sunset review of the suspended antidumping duty investigation on CTL plate from Russia, pursuant to section 751(c) of the Act. See Initiation Notice, 73 FR 44968. The Department received a timely notice of intent to participate in this sunset review from Nucor Corporation on August 5, 2008, from SSAB North America Division (“SSAB N.A.D.”), Evraz S.A. Oregon Steel Mills (“OSM”) and Evraz S.A. Claymont (“Claymont”) on August 15, 2008, and from ArcelorMittal USA, Inc. on August 18, 2008 (collectively, “domestic interested parties”), within the applicable deadline specified in section 351.218(d)(1)(i) of the Department's regulations. Domestic interested parties claimed interested-party status under section 771(9)(C) of the Act as producers of the domestic like products. In addition, domestic interested parties assert that they are not related to a foreign producer/exporter and are not importers, or related to importers, of the subject merchandise. At the request of the Department, on September 11, 2008, SSAB N.A.D., OSM and Claymont submitted a clarification to their notice of intent to participate. Respondent interested parties did not submit notices of intent to participate.

The Department also received a complete, collective substantive response from the domestic interested parties within the 30-day deadline specified in the Department's regulations under section 351.218(d)(3)(i). After examining the substantive response from the domestic interested parties, on September 22, 2008, the Department determined that the response was adequate, consistent with the requirements of 19 CFR 351.218(e). See Memorandum from Maureen Price, Senior Policy Analyst, Office of Policy, Import Administration, to Sally C. Gannon, Director for Bilateral Agreements, Office of Policy, Import Administration, regarding “Sunset Review of the Agreement Suspending the Antidumping Investigation of Certain Cut-to-Length Carbon Steel Plate from the Russian Federation: Adequacy Determination” (September 15, 2008). See also Letter from Edward C. Yang, Director, AD/CVD Operations, China/NME Group, Import Administration, to Robert Carpenter, Director, Office of Investigations, International Trade Commission (September 22, 2008). Because the response of the domestic interested parties constituted an adequate response to the notice of initiation and there was no response from the respondent interested parties, the Department is conducting an expedited (120-day) sunset review in accordance with 19 CFR 351.218(e)(1)(ii)(c)(2).

Scope of Review

The products covered by the Suspension Agreement include hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in the Suspension Agreement are flat-rolled products of nonrectangular cross-section where such cross-section is achieved subsequent to the rolling process (i.e., products which have been “worked after rolling”) for example, products which have been beveled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, the written description of the scope of the Agreement is dispositive. Specifically excluded from subject merchandise within the scope of this Agreement is grade X-70 steel plate.

Analysis of Comments Received

All issues raised by parties to this sunset review are addressed in the “Issues and Decision Memorandum for the Final Results of the Expedited Sunset Review of the Agreement Suspending the Antidumping Duty Investigation of Certain Cut-to-Length Carbon Steel Plate from the Russian Federation,” from Ronald K. Lorentzen, Deputy Assistant Secretary for Policy and Negotiations, Import Administration, to David M. Spooner, Assistant Secretary, Import Administration (December 1, 2008) (“Decision Memorandum”), which is adopted by this notice. The issues discussed in the Decision Memorandum include the likelihood of continuation or recurrence of dumping and the magnitude of the margins likely to prevail were the suspended antidumping duty investigation to be terminated. Parties may find a complete discussion of all issues raised in this review and the corresponding recommendations in this public memorandum, which is on file in the Central Records Unit, room B-1117, of the main Commerce building. In addition, a complete version of the Decision Memorandum can be accessed directly on the Web at http://ia.ita.doc.gov/frn. The paper copy and electronic version of the Decision Memorandum are identical in content.

Final Results of Review

We determine that termination of the Suspension Agreement and the underlying antidumping duty investigation on CTL plate from Russia would likely lead to a continuation or recurrence of dumping at the following percentage weighted-average margins:

Manufacturer/producer/ exporter | Weighted-average margin percentage
Severstal | 53.81
Russia-wide | 185.00

We are issuing and publishing this notice in accordance with sections 751(c), 752(c), and 777(i)(1) of the Tariff Act.

Dated: December 1, 2008.
David M. Spooner,
Assistant Secretary for Import Administration.

[FR Doc. E8-29014 Filed 12-5-08; 8:45 am]

BILLING CODE 3510-DS-S